COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and deletes services previously furnished by such agencies.

DATES: Comments must be received on or before: June 09, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN—Product Name: MR 13033—Placemat, Woven, Assorted Colors

Mandatory Source of Supply: Chester County Branch of the PAB, Coatesville, PA

Contracting Activity: Military Resale-Defense Commissary Agency

NSN—Product Name: MR 1048—Bottle, Trigger, All Purpose, Opaque, 32 oz

Mandatory Source of Supply: Alphapointe, Kansas City, MO

Contracting Activity: Military Resale-Defense Commissary Agency

Service

Service Type: Mail Center Operations

Mandatory for: US Air Force, Arnold Engineering Development Complex, Official Mail Center, Arnold Air Force Base, TN

Mandatory Source of Supply: CW Resources, Inc., New Britain, CT

Contracting Activity: DEPT OF THE AIR FORCE, FA9101 AEDC PKP PROCRMNT BR

Deletions

The following services are proposed for deletion from the Procurement List:

Services

Service Type: Contract Cook Support & Dining Facility Attendant

Mandatory for: White Sands Missile Range, NM

Mandatory Source of Supply: Tresco, Inc., Las Cruces, NM

Contracting Activity: DEPT OF THE ARMY, W6QM MICC-WHITE SANDS

Service Type: Janitorial Services

Mandatory for: Norman Armed Force Reserve Center (AFRC), Norman, OK

Mandatory Source of Supply: Dale Rogers Training Center, Inc., Oklahoma City, OK

Contracting Activity: DEPT OF THE ARMY, W7NV USPFO ACTIVITY OK ARNG

Service Type: Janitorial Services

Mandatory for: Mustang Armed Force Reserve Center (AFRC), Mustang, OK

Mandatory Source of Supply: Dale Rogers Training Center, Inc., Oklahoma City, OK

Contracting Activity: DEPT OF THE ARMY, W7NV USPFO ACTIVITY OK ARNG

Service Type: Food Service Attendant

Mandatory for: Fort Custer Training Center, Augusta, MI

Mandatory Source of Supply: Calhoun County Community Mental Health Services, Battle Creek, MI

Contracting Activity: DEPT OF THE ARMY, W7NF USPFO ACTIVITY MI ARNG

Service Type: Packaging Service

Mandatory for: Crane Division, Naval Surface Warfare Center, Crane, IN

Mandatory Source of Supply: Knox County Association for Remarkable Citizens, Inc., Vincennes, IN

Contracting Activity: DEPT OF THE NAVY, US FLEET FORCES COMMAND

Service Type: Electronic Image Conversion

Mandatory for: Federal Bureau of Investigation: 9th & Pennsylvania Avenue NW, Washington, DC

Mandatory Source of Supply: ServiceSource, Inc., Oakton, VA

Contracting Activity: FEDERAL BUREAU OF INVESTIGATION, DEPT OF JUST/FEDERAL BUREAU OF INVESTIGATION

Service Type: Mailroom Operation

Mandatory for: Defense Contract Management Agency, Barnes Building, 495 Summer St., Boston, MA

Mandatory Source of Supply: Community Workshops, Inc., Boston, MA

Contracting Activity: DEFENSE CONTRACT MANAGEMENT AGENCY (DCMA), DEFENSE CONTRACT MANAGEMENT AGENCY

Service Type: Janitorial/Custodial

Mandatory for: Rattlesnake National Recreation Area: Maclay Flat and Fort Fizzle, Missoula Ranger District, Missoula, MT

Mandatory Source of Supply: UNKNOWN

Contracting Activity: AGRICULTURE, DEPARTMENT OF, PROCUREMENT OPERATIONS DIVISION

Service Type: Administrative Services

Mandatory for: HUD Birmingham Field Office, Birmingham, AL

Mandatory Source of Supply: Nobis Enterprises, Inc., Marietta, GA

Contracting Activity: HOUSING AND URBAN DEVELOPMENT, DEPARTMENT OF, DEPT OF HOUSING AND URBAN DEVELOPMENT

Service Type: Janitorial/Custodial

Mandatory for: Social Security Administration, 190 Stone Street, Watertown, NY

Mandatory Source of Supply: Jefferson County Chapter, NYSARC, Watertown, NY

Contracting Activity: PUBLIC BUILDINGS SERVICE, GSA PBS R2 ACQUISITION MANAGEMENT DIVISION

Service Type: Janitorial/Custodial

Mandatory for: Social Security Administration Building, 517 N Barry Street, Olean, NY

Mandatory Source of Supply: Cattaraugus County Chapter, NYSARC, Olean, NY

Contracting Activity: PUBLIC BUILDINGS SERVICE, GSA PBS R2 ACQUISITION MANAGEMENT DIVISION

Service Type: Janitorial/Custodial

Mandatory for: Southeast Federal Center: M Street SE, Washington, DC

Mandatory Source of Supply: Davis Memorial Goodwill Industries, Washington, DC

Contracting Activity: PUBLIC BUILDINGS SERVICE, WPHBB—AGGREGATED REPAIR&ALTERATIONS CONTRACTS BRANCH

Service Type: Custodial service

Mandatory for: FEMA LA Recovery Office, Sherwood Forest Staging Area, 2695 Sherwood Forest, Baton Rouge, LA

Mandatory Source of Supply: Louisiana Industries for the Disabled, Inc., Baton Rouge, LA

Contracting Activity: FEDERAL EMERGENCY MANAGEMENT AGENCY, LOUISIANA CONTRACT OPS & MGMT BRANCH

Service Type: Custodial, Grounds Maintenance and Landscaping

Mandatory for: Cherokee National Forest-Tellico Ranger District, Tellico Plains, TN

Mandatory Source of Supply: Goodwill Industries—Knoxville, Inc., Knoxville, TN

Contracting Activity: AGRICULTURE, DEPARTMENT OF, AGRICULTURE, DEPARTMENT OF

Service Type: Disposal Support Services

Mandatory for: Gunter Air Force Base, AL

Mandatory Source of Supply: Goodwill Industries of Central Alabama, Inc., Montgomery, AL

Contracting Activity: DEFENSE LOGISTICS AGENCY, DLA SUPPORT SERVICES—DSS

Service Type: Custodial service

Mandatory for: Southside Locust Pt Baltimore MD—CBP, Baltimore, MD

Mandatory Source of Supply: The Arc Baltimore, Inc., Baltimore, MD

Contracting Activity: U.S. CUSTOMS AND BORDER PROTECTION, PROCUREMENT DIRECTORATE

Service Type: Janitorial/Custodial

Mandatory for: U.S. Army Reserve Center: Westover Air Reserve Base, Chicopee, MA

Mandatory Source of Supply: Allied Community Services, Inc., Enfield, CT

Contracting Activity: DEPT OF THE ARMY, W6QM MICC-FT DIX (RC-E)

Service Type: Janitorial Service

Mandatory for: Corpus Christi Resident Office, USACE (SAO), 1920 N Chaparral St., Corpus Christi, TX

Mandatory Source of Supply: Training, Rehabilitation, & Development Institute, Inc., San Antonio, TX

Contracting Activity: DEPT OF THE ARMY, W076 ENDIST GALVESTON

Service Type: Grounds Maintenance

Mandatory for: U.S. Army Reserve Center: 443 Route 119 North, Indiana, PA

Mandatory Source of Supply: UNKNOWN

Contracting Activity: DEPT OF THE ARMY, W40M RHCO-ATLANTIC USAHCA

Michael R. Jurkowski,
Deputy Director, Business & PL Operations.

[FR Doc. 2019-09650 Filed 5-9-19; 8:45 am]

BILLING CODE 6353-01-P